DEPARTMENT OF TRANSPORTATION

Federal Aviation Administration

14 CFR Part 73

[Airspace Docket No. 00-ASO-8]

RIN 2120-AA66

Amendment to Time of Designation for Restricted Area R-7104 (R-7104), Vieques Island, PR

AGENCY: Federal Aviation Administration (FAA), DOT.

ACTION: Final rule.

SUMMARY: This action amends the time of designation for Restricted Area R-7104 (R-7104), Vieques Island, PR., from “Intermittent, 0600-2300 local time, daily; other times by NOTAM 24 hours in advance” to “As activated by NOTAM 24 hours in advance.” The FAA is taking this action in response to a request from the United States Navy (USN) and the FAA Southern Regional Air Traffic Division.

EFFECTIVE DATE: 0901 UTC, August 10, 2000.

FOR FURTHER INFORMATION CONTACT: Terry Brown, Airspace and Rules Division, ATA-400, Office of Air Traffic Airspace Management, Federal Aviation Administration, 800 Independence Avenue, SW., Washington, DC 20591; telephone: (202) 267-8783.

SUPPLEMENTARY INFORMATION:

Background

As a result of a review of restricted area operations, the USN and the FAA Southern Regional Air Traffic Division requested to change the requirements for the activation of R-7104, Vieques Island, PR. This action will simplify the Times of Designation portion of FAA Order 7400.8.

The Rule

This amendment to 14 CFR part 73 changes the time of designation for R-7104, Vieques Island, PR, by removing the words “Intermittent, 0600-2300 local time, daily; other times by NOTAM 24 hours in advance,” and inserting the words “As activated by NOTAM 24 hours in advance.”

Since this is an administrative change and does not affect the boundaries, designated altitudes, or activities conducted therein; I find that notice and public procedures under 5 U.S.C. 553(b) are unnecessary.

Section 73.71 of part 73 was republished in FAA Order 7400.8G, dated September 1, 1999.

The FAA has determined that this action only involves an established body of technical regulations for which frequent and routine amendments are necessary to keep them operationally current. Therefore, this regulation: (1) Is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this rule, when promulgated, will not have a significant economic impact on a substantial number of small entities under the criteria of the Regulatory Flexibility Act.

Environmental Review

In accordance with FAA Order 1050.1D, “Polices and Procedures for Considering Environmental Impacts,” and the National Environmental Policy Act of 1969, this action is not subject to environmental assessments and procedures.

List of Subjects in 14 CFR Part 73

Airspace, Navigation (air).

Adoption of the Amendment

In consideration of the foregoing, the Federal Aviation Administration amends 14 CFR part 73, as follows:

PART 73—SPECIAL USE AIRSPACE

1. The authority citation for part 73 continues to read as follows:

Authority: 49 U.S.C. 106(g), 40103, 40113, 40120; E.O. 10854, 24 FR 9565, 3 CFR, 1959-1963 Comp., p. 389.

§ 73.71 [Amended]

2. § 73.71 is amended as follows:

* * * * *

R-7104 Vieques Island, PR [Amended]

By removing the words “Intermittent, 0600-2300 local time, daily; other times by NOTAM 24 hours in advance” and inserting the words “As activated by NOTAM 24 hours in advance.”

* * * * *

Issued in Washington, DC, June 5, 2000.
Reginald C. Matthews,
Manager, Airspace and Rules Division.

[FR Doc. 00-14859 Filed 6-12-00; 8:45 am]

BILLING CODE 4910-13-U